DEPARTMENT OF TRANSPORTATION

Federal Highway Administration

Environmental Impact Statement: Orange County and Riverside County, California

AGENCY: Federal Highway Administration (FHWA), DOT.

ACTION: Notice of intent.

SUMMARY: The FHWA, on behalf of the California Department of Transportation (Caltrans), is issuing this notice to advise the public that a Supplemental Draft Environmental Impact Statement (Supplemental Draft EIS) will be prepared for a proposed highway project in Orange County and Riverside County, California. The original Notice of Intent was published on October 22, 1986 and revised on March 16, 1988.

DATES: The deadline for comments is Monday, April 13, 2015.

FOR FURTHER INFORMATION CONTACT: Smita Deshpande; 3347 Michelson Drive, Suite 100; Irvine, CA 92612; (949) 724-2245; D12.NOP241.91@dot.ca.gov; Chief, Division of Environmental Analysis.

SUPPLEMENTARY INFORMATION: Effective July 1, 2007, the Federal Highway Administration (FHWA) assigned, and the California Department of Transportation (Caltrans) assumed, environmental responsibilities for this project pursuant to 23 U.S.C. 327. Caltrans as the assigned National Environmental Policy Act (NEPA) agency, in cooperation with the United States Fish and Wildlife Service and United States Army Corps of Engineers, will prepare a Supplemental Draft EIS on a proposal for a median-to-median connector between State Route 241 (SR-241) and the State Route 91 (SR-91) Express Lanes, project in Orange County and Riverside County, California.

The proposed median-to-median connector project encompasses 12-ORA-241 (PM 36.1/39.1), 12-ORA-91 (PM 14.7/18.9), and 08-RIV-91 (PM 0.0/1.5) for a length of approximately 8.7 miles. Anticipated federal approvals include an FHWA Air Quality Conformity Determination, Biological Opinion Amendment and permits under Section 404 and 401 of the Clean Water Act.

Caltrans District 12, in cooperation with the Foothill/Eastern Transportation Corridor Agency (F/ETCA), proposes to construct the median-to-median connector from State Route 241 (SR-241) to the State Route 91 (SR-91) Express Lanes. The proposed median-to-median connector is phase 2 of the Eastern Transportation Corridor (ETC) project previously approved in 1994. It will provide improved access between SR-241 and SR-91 and is proposed to be a tolled facility. Caltrans will be the lead agency for the project. The United States Army Corps of Engineers and the United States Fish and Wildlife Service were identified as cooperating agencies in the corresponding 1991 ETC Draft EIS and 1994 ETC Final EIS.

The SR-241/SR-91 Express Lane Connector was originally evaluated as a SR-241/SR-91 high-occupancy vehicle (HOV) direct connector in the 1991 ETC Draft EIS and 1994 ETC Final EIS (both of which studied a broader project area with improvements on SR-133, SR-241 and SR-261). The Systems Management Concept (SMC) for the ETC project proposed that the project would be staged, incorporating general purpose traffic and eventually HOV lanes, to meet the forecasted demand. Under the SMC, ETC construction would be completed in one stage with three or more phases.

To implement Phase 2 of the ETC project, a Supplemental Draft EIS is being prepared to focus on the eastern portion of the original project and to address changes to environmental conditions and regulatory requirements. Various alternatives were studied in the 1991 ETC Draft EIS and 1994 ETC Final EIS; however, the Supplemental Draft EIS will include a No Build and one Build Alternative for the median-to-median connector only.

Letters describing the proposed action and soliciting comments will be sent to appropriate Federal, State, cooperating agencies, participating agencies, local agencies, and to private organizations and citizens who have previously expressed or are known to have interest in this proposal. Environmental Review of the project is anticipated to occur from 2015 through 2017. A public scoping meeting is not scheduled at this time; should you be interested, please let us know in writing. A public hearing will be held in 2016. Public notice will be given of the time and place of the hearing. The Supplemental Draft EIS will be available for public and agency review and comment prior to the public hearing.

To ensure that the full range of issues related to this proposed action are addressed and all significant issues identified, comments, and suggestions are invited from all interested parties. Comments or questions concerning this proposed action and the Supplemental Draft EIS should be directed to Caltrans at the address provided above.

(Catalog of Federal Domestic Assistance Program Number 20.205, Highway Planning and Construction. The regulations implementing Executive Order 12372 regarding intergovernmental consultation on Federal programs and activities apply to this program.)

Issued on: March 16, 2015.
Shawn Oliver,
Team Leader, Right of Way and Environment, Federal Highway Administration, Sacramento, California.

[FR Doc. 2015-06415 Filed 3-19-15; 8:45 am]

BILLING CODE 4910-22-P